FEDERAL COMMUNICATIONS COMMISSION

Notice of Public Information Collection(s) Being Reviewed by the Federal Communications Commission for Extension Under Delegated Authority

January 26, 2007

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments by April 9, 2007. If you anticipate that you will be submitting comments, but find it difficult to do so within the period of time allowed by this notice, you should advise the contact listed below as soon as possible.

ADDRESSES: Direct all PRA comments to Allison E. Zaleski, Office of Management and Budget (OMB), Room 10236 NEOB, Washington, DC 20503, (202) 395-6466, or via fax at 202-395-5167, or via the Internet at Allison_E._Zaleski@omb.eop.gov and to Judith-B.Herman@fcc.gov, Federal Communications Commission (FCC), Room 1-B441, 445 12th Street, SW., Washington, DC 20554. To submit your comments by e-mail send them to: PRA@fcc.gov. If you would like to obtain or view a copy of this information collection after the 60 day comment period, you may do so by visiting the FCC PRA Web page at: http://www.fcc.gov/omd/pra.

FOR FURTHER INFORMATION CONTACT: For additional information about the information collection(s) send an e-mail to PRA@fcc.gov or contact Judith B. Herman at 202-418-0214.

SUPPLEMENTARY INFORMATION: OMB Control No.: 3060-0106.

Title: Part 43—Reporting Requirements for the U.S. Providers of International Telecommunications Services and Affiliates.

Form No.: N/A.

Type of Review: Extension of a currently approved collection.

Respondents: Business or other for-profit.

Number of Respondents: 134 respondents; 134 responses.

Estimated Time Per Response: 18 hours.

Frequency of Response: On occasion, annual and quarterly reporting requirements.

Nature of Response: Mandatory.

Total Annual Burden: 2,412 hours.

Annual Cost Burden: $216,524.

Privacy Act Impact Assessment: N/A.

Nature and Extent of Confidentiality: Pursuant to Section 43.61(b), carriers file their quarterly traffic and revenue reports with the Commission on a confidential basis. Except for sections 43.61(b) and 43.61(c), the Commission generally treated the information submitted pursuant to Section 43.61 as non-confidential. However, the Commission allowed carriers to request proprietary treatment for specific pieces of information, such as information on transit traffic. The Commission has granted carriers confidential treatment for circuit-status information submitted under section 43.82. The Commission proposes to continue its policy of making the carriers' annual traffic and revenue data available to the public. In the interest of public access to information, even where the Commission grants a request to keep a particular piece of information confidential, the agency proposes to include that information in the industry-wide totals it compiles in the annual International Telecommunications Data Reports.

Needs and Uses: This collection will be submitted as an extension (no change in reporting requirements and/or recordkeeping requirements) after this 60 day comment period to Office of Management and Budget (OMB) in order to obtain the full three year clearance. There is no change in respondents, burden hours or annual costs.

The reporting requirements included under this OMB Control Number 3060-0106 enables the Commission to analyze the U.S. international telecommunications market, track market developments, and to determine the competitiveness of each service and geographical market. If the information collection was not conducted or was conducted less frequently, the Commission would not be able to ensure compliance with its international rules and policies. The agency would not be able to comply with the international regulations stated in the World Trade Organization (WTO) Basic Telecom Agreement.

OMB Control No.: 3060-0295.

Title: Section 90.607(a)(1) and (b)(1), Supplemental Information to be Furnished by Applicants for Facilities Under this Subpart.

Form No.: N/A.

Type of Review: Extension of a currently approved collection.

Respondents: Business or other for-profit, not-for-profit institutions, and state, local or tribal government.

Number of Respondents: 28,593 respondents; 28,593 responses.

Estimated Time Per Response: .25 minutes.

Frequency of Response: On occasion reporting requirement.

Nature of Response: Required to obtain or retain benefits.

Total Annual Burden: 2,383 hours.

Annual Cost Burden: N/A.

Privacy Act Impact Assessment: N/A.

Nature and Extent of Confidentiality: There is no need for confidentiality.

Needs and Uses: This collection will be submitted as an extension (no change in reporting requirements and/or recordkeeping requirements) after this 60 day comment period to Office of Management and Budget (OMB) in order to obtain the full three year clearance.

This rule section requires the affected applicants to submit a list of any radio facilities they hold within 40 miles of the base station transmitter site being applied for. This information is used to determine if an applicant's proposed system is necessary in light of communications facilities it already owns. Such a determination helps the Commission to equitably distribute limited spectrum and prevents spectrum warehousing.

OMB Control No.: 3060-0411.

Title: Procedures for Formal Complaints Filed Against Common Carriers.

Form No.: FCC Form 485.

Type of Review: Extension of a currently approved collection.

Respondents: Business or other for-profit, not-for profit institutions, Federal Government, State, Local or Tribal government.

Number of Respondents: 41 respondents; 41 responses.

Estimated Time Per Response: .5-12 hours.

Frequency of Response: On occasion reporting requirements, third party disclosure requirement and recordkeeping requirement.

Nature of Response: Required to obtain or retain benefits.

Total Annual Burden: 1,660 hours.

Annual Cost Burden: $2,260,100.

Privacy Act Impact Assessment: N/A.

Nature and Extent of Confidentiality: Section 1.731 provides for confidential treatment of materials disclosed or exchanged during the course of formal complaint proceedings when those materials have been identified by the disclosing party as proprietary or confidential. In the rare case in which a producing party believes that Section 1.731 will not provide adequate protection for its asserted confidential material, it may request either that the opposing party consent to greater protection, or that the staff supervising the proceeding order greater protection.

Needs and Uses: This collection will be submitted as an extension (no change in reporting requirements and/or recordkeeping requirements) after this 60 day comment period to Office of Management and Budget (OMB) in order to obtain the full three year clearance.

Sections 206 through 209 of the Communications Act of 1934, as amended (“the Act”), provide the statutory framework for the Commission's rules for resolving formal complaints against common carriers. Section 208(a) authorizes complaints by any person “complaining of anything done or omitted to be done by any common carrier” subject to the provision of the Act. Section 208(a) states that if a carrier does not satisfy a complaint or there appears to be any reasonable ground for investigating the complaint, the Commission shall “investigate the matters complained of in such manner and by such means as it shall deem proper.” Certain categories of complaints are subject to a statutory deadline for resolution. See, e.g., 47 U.S.C. 208(b)(1) (imposing a five-month deadline for complaints challenging the “lawfulness of a charge, classification, regulation, or practice”); 47 U.S.C. 271(d)(6) (imposing a 90-day deadline for complaints alleging that a Bell Operating Company (BOC) has ceased to meet conditions imposed in connection with approval to provide in-region interLATA services.)

Formal complaint proceedings before the Commission are similar to civil litigation in federal district court. In fact, under section 207 of the Act, a party claiming to be damaged by a common carrier, may file its complaint with the Commission or in any district court of the United States, “but such person shall not have the right to pursue both such remedies” (47 U.S.C. 207). The Commission has promulgated rules (the “Formal Complaint Rules”) to govern its formal complaint proceedings that are similar in many respects to the Federal Rules of Civil Procedure. See 47 CFR 1.720-1.736. These rules require the submission of information from the parties necessary to create a record on which the Commission can decide complex legal and factual issues. As described in Section 1.720 of the Commission's rules, formal complaint proceedings are resolved on a written record consisting of a complaint, answer or response, and joint statement of stipulated facts, disputed facts and key legal issues, along with all associated affidavits, exhibits and other attachments.

This collection of information includes the process for submitting a formal complaint. The Commission uses this information to determine the sufficiency of complaints and to resolve the merits of disputes between the parties. Orders issued by the Commission in formal complaint proceedings are based upon evidence and argument produced by the parties in accordance with the Formal Complaint Rules. If the information were not collected, the Commission would not be able to resolve common carrier-related complaint proceedings, as required by Section 208 of the Act.

OMB Control No.: 3060-0572.

Title: Filing Manual for Annual International Circuit Status Reports.

Form No.: N/A.

Type of Review: Extension of a currently approved collection.

Respondents: Business or other for-profit.

Number of Respondents: 138 respondents; 138 responses.

Estimated Time Per Response: 11 hours.

Frequency of Response: Annual reporting requirement.

Nature of Response: Mandatory.

Total Annual Burden: 1,300 hours.

Annual Cost Burden: $46,000.

Privacy Act Impact Assessment: N/A.

Nature and Extent of Confidentiality: At present, the Commission does not provide any assurance of confidentiality to carriers. However, the Commission is seeking comment on whether the circuit-status information the carriers submit under section 43.82 continues to be competitively sensitive or whether the carriers' circuit-status information could also be made available to the public. Carriers that want continued confidential treatment for this information should address why the information is competitively sensitive. It is possible that information that is competitively sensitive when it is submitted would not continue to be sensitive after time has passed. The agency is requesting that carriers comment on whether the circuit-status information could be released after one year or after two years.

Needs and Uses: This collection will be submitted as an extension (no change in reporting requirements and/or recordkeeping requirements) after this 60 day comment period to Office of Management and Budget (OMB) in order to obtain the full three year clearance. There is no change in respondents, burden hours or annual costs.

U.S. international carriers are required to file circuit-status reports with the Commission annually in compliance with Section 43.82 of the Commission's rules. The reports provide the Commission, the carriers, and others about information on how U.S. international carriers use their circuits. The Commission uses the information from the circuit-status reports to ensure that carriers with market power to not use their access to circuit capability to engage in any anti-competitive behavior. Additionally, the Commission uses the reports to implement the requirement in Section 9 of the Communications Act of 1934, as amended, that carriers pay annual regulatory fees for each of the bearer circuits they own.

Without this information, the Commission's efforts to achieve a more competitive international telecommunications marketplace will be impeded. Furthermore, the Commission would not have the information necessary to comply with its statutory requirements under the Omnibus Budget Reconciliation Act of 1993. Congress mandated the Commission to collect annual regulatory fees on active equivalent 64 kilobits international circuits. Without such information, the Commission would not be able to fulfill its statutory obligation.

OMB Control No.: 3060-0625.

Title: Part 24—Personal Communications Services—Narrowband PCS.

Form No.: N/A.

Type of Review: Extension of a currently approved collection.

Respondents: Individuals or household, business or other for-profit, not-for profit institutions, and state, local and tribal government.

Number of Respondents: 13 respondents; 117 responses.

Estimated Time Per Response: 3 hours.

Frequency of Response: On occasion reporting requirements and recordkeeping requirement.

Nature of Response: Required to obtain or retain benefits.

Total Annual Burden: 131 hours.

Annual Cost Burden: $53,000.

Privacy Act Impact Assessment: Yes.

Nature and Extent of Confidentiality: There is no need for confidentiality.

Needs and Uses: This collection will be submitted as an extension (no change in reporting requirements and/or recordkeeping requirements) after this 60 day comment period to Office of Management and Budget (OMB) in order to obtain the full three year clearance. There is no change in respondents, burden hours or annual costs.

Section 24.103 requires that certain narrowband PCS licensees to notify Commission at specific benchmarks that are in compliance with construction requirements in order to ensure that licensees quickly construct their systems and provide substantial service to licensed areas. Further, the reporting and recordkeeping requirements under this section will be used to satisfy the Commission's rule that licensees prove that they have established “substantial service” within the 5 and 10 year benchmarks established upon the grant date of each license. Without this information, the Commission would not be able to carry out its statutory responsibilities.

Federal Communications Commission.
Marlene H. Dortch,
Secretary.

[FR Doc. E7-1800 Filed 2-6-07; 8:45 am]

BILLING CODE 6712-01-P